DEPARTMENT OF DEFENSE

Office of the Secretary

[Transmittal No. 15-65]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-65 with attached Policy Justification and Sensitivity of Technology.

Dated: February 2, 2016.
Aaron Siegel,
Alternate OSD Federal Register Liaison Officer, Department of Defense.

BILLING CODE 5001-06-P

Transmittal No. 15-65

Notice of Proposed Issuance of Letter of Offer Pursuant to Section 36(b)(l) of the Arms Export Control Act, as amended

(i) Prospective Purchaser: Government of Oman

(ii) Total Estimated Value:

Major Defense Equipment * | $51 million
Other | $ 0 million
Total | $51 million

(iii) Description and Quantity or Quantities of Articles or Services under Consideration for Purchase:

Major Defense Equipment (MDE):

Four hundred (400) Tube-launched Optically-tracked wire guided (TOW) 2B Aero, Radio Frequency (RF) Missiles (BGM-71F-3-RF)

Seven (7) TOW 2B Aero, RF Missile (BGM-71F-3-RF) Fly-to-Buy Missiles

(iv) Military Department: U.S. Army (UKP)

(v) Prior Related Cases, if any: FMS Case UKC-$16.8B-05 Mar 15

(vi) Sales Commission, Fee, etc., Paid, Offered, or Agreed to be Paid: None

(vii) Sensitivity of Technology Contained in the Defense Article or Defense Services Proposed to be Sold: See Attached Annex.

(viii) Date Report Delivered to Congress: 06 January 2016

* As defined in Section 47(6) of the Arms Export Control Act.

POLICY JUSTIFICATION

Government of Oman-TOW 2B Missiles

The Government of Oman has requested a possible sale of:

Major Defense Equipment (MDE):

Four hundred (400) Tube-launched Optically-tracked wire guided (TOW) 2B Aero, Radio Frequency (RF) Missiles (BGM-71F-3-RF)

Seven (7) TOW 2B Aero, RF Missile (BGM-71F-3-RF) Fly-to-Buy Missiles

The estimated value of MDE is $51 million. The total estimated cost of this effort is $51 million.

This proposed sale will contribute to the foreign policy and national security of the United States by helping to improve the security of a friendly country which has been, and continues to be, an important force for political stability and economic progress in the Middle East.

The proposed sale of the TOW 2B Missiles and technical support will advance Oman's efforts to develop an integrated ground defense capability. Oman will use this capability to strengthen its homeland defense and enhance interoperability with the U.S. and other allies. Oman will have no difficulty absorbing these missiles into its armed forces.

The proposed sale of this equipment and support will not alter the basic military balance in the region.

The principal contractor will be Raytheon Missile Systems, Tucson, Arizona.

There are no known offset agreements proposed in connection with this potential sale.

Implementation of this proposed sale will require the U.S. Government or contractor representatives to travel to Oman for multiple periods for equipment de-processing/fielding, system checkout and new equipment training. There will be no more than three (3) contractor personnel in Oman at any one time and all efforts will take less than fourteen (14) weeks in total.

There will be no adverse impact on U.S. defense readiness as a result of this proposed sale.

Transmittal No. 15-65

Notice of Proposed Issuance of Letter of Offer Pursuant to Section 36(b)(1) of the Arms Export Control Act, as amended

Annex

Item No. vii

(vii) Sensitivity of Technology:

1. The Radio Frequency (RF) Tube-launched Optically-tracked Wire guided (TOW) 2B Aero Missile (BGM-71F-3-RF) is a fly-over, shoot-down version with the actual missile flight path offset above the gunner's aim point. The TOW 2B flies over the target and uses a laser profilometer and magnetic sensor to detect and fire two downward-directed, explosively-formed penetrator warheads into the target. The TOW 2B has a range of 200 to 3750m. A Radio Frequency (RF) Data link, replaced the traditional TOW wire guidance link in all new production variants of the TOW beginning in FY 07. No RF TOW AERO technical data will be released during program development without prior approval from the Office of the Deputy Assistant Secretary of the Army for Defense Exports and Cooperation. The hardware for the TOW 2B is UNCLASSIFIED. Software for performance data, lethality penetration and sensors are classified SECRET.

2. If a technologically advanced adversary were to obtain knowledge of the specific hardware and software elements, the information could be used to develop countermeasures that might reduce weapon system effectiveness or be used in the development of a system with similar or advanced capabilities.

3. A determination has been made that the recipient country can provide substantially the same degree of protection for the sensitive technology being released as the U.S. Government. This sale is necessary in furtherance of the U.S. foreign policy and national security objectives outlined in the Policy Justification.

4. All defense articles and services listed in this transmittal have been authorized for release and export to the Government of Oman.

[FR Doc. 2016-02261 Filed 2-4-16; 8:45 am]

BILLING CODE 5001-06-C